DEPARTMENT OF THE INTERIOR

Bureau of Land Management

[OR-100-5882-PH; GP2-0195]

Meeting Notices for the Roseburg District Bureau of Land Management (BLM) Resource Advisory Committee Under Section 205 of the Secure Rural Schools and Community Self Determination Act of 2000 (Pub. L. 106-393).

AGENCY: Bureau of Land Management, Interior.

SUMMARY: This notice is published in accordance with Section 10(a)(2) of the Federal Advisory Committee Act. Meeting notice is hereby given for the Roseburg District BLM Resource Advisory Committee pursuant to Section 205 of the Secure Rural Schools and Community Self Determination Act of 2000, Public Law 106-393 (the Act). The committee will convene three times to review, discuss, and recommend funding for project proposals submitted under Title II of the Act. The first meeting will consist of a field trip to past and proposed project locations. At the second meeting, applicants will have an opportunity to make brief presentations regarding their projects. At the third meeting the committee will discuss projects and make funding recommendations. A fourth meeting is scheduled as a contingency, in case the Committee is not able to complete all its work at the previous meetings. At all meetings, a period will be set aside for public comments.

DATES: The Roseburg Resource Advisory Committee will meet at the BLM Roseburg District Office, 777 NW., Garden Valley Boulevard, Roseburg, Oregon 97470, on the following dates and times:

April 24, 2006, 8 a.m. to 4 p.m.

May 8, 2006, 9 a.m. to 4 p.m.

May 22, 2006, 9 a.m. to 4 p.m.

June 8, 2006, 9 a.m. to 4 p.m.

SUPPLEMENTARY INFORMATION: Pursuant to the Act, five Resource Advisory Committees have been formed for western Oregon BLM districts that contain Oregon & California (O&C) Grand Lands and Coos Bay Wagon Road lands. The Act establishes a 6-year payment schedule to local counties in lieu of funds derived from the harvest of timber on Federal lands, which have dropped dramatically over the past 10 years.

The Act creates a new mechanism for local community collaboration with Federal land management activities in the selection of projects to be conducted on Federal lands or that will benefit resources on Federal lands using funds under Title II of the Act. The Roseburg District BLM Resource Advisory Committee consists of 15 local citizens (plus 6 alternates) representing a wide array of interests.

FOR FURTHER INFORMATION CONTACT: Additional information concerning the Roseburg District BLM Resource Advisory Committee may be obtained from Jake Winn, Roseburg District Office, 777 Garden Valley Blvd, Roseburg, Oregon 97470, or jake_winn@or.blm.gov, or on the Web at http://www.or.blm.gov.

Dated: April 7, 2006.
Jay Carlson,
Roseburg District Manager.

[FR Doc. E6-6139 Filed 4-24-06; 8:45 am]

BILLING CODE 4310-33-P